DEPARTMENT OF THE TREASURY

Customs Service

General Program Test for Transfer of Accompanied (International) In-Transit Baggage

AGENCY: Customs Service, Department of the Treasury.

ACTION: General notice.

SUMMARY: This notice extends the time period for applying to participate in the general program test for the transfer of accompanied, international in-transit baggage.

DATES: To participate in the test, applicants have until close of business on May 26, 2000, to file the required information with Customs.

ADDRESSES: To apply for participation in the test, air carriers must timely submit to the appropriate port director (having jurisdiction over the airport involved) a written statement of intent to comply with the requirements of the test program.

FOR FURTHER INFORMATION CONTACT: For information relative to the test program and the application to participate: Steve A. Gilbert, Office of Field Operations (202) 927-1391.

SUPPLEMENTARY INFORMATION:

Background

On February 23, 2000, Customs published in the Federal Register (65 FR 9054) a notice announcing a general program test for the transfer of accompanied, international in-transit baggage. The notice announced the eligibility requirements for participation in the test, described the information transmission and baggage processing procedures required of participant air carriers, and set forth that applications to participate must be filed on or before March 24, 2000. Comments were also requested, to be submitted to Customs on or before the same date.

Customs anticipates issuance of another notice regarding the test program to announce any changes in the test that might be warranted after Customs evaluates the comments received and reconsiders the test program in light thereof.

This notice announces that the time period for applying to participate in the test has been extended to May 26, 2000.

Dated: March 29, 2000.
Robert J. McNamara,
Acting Assistant Commissioner, Office of Field Operations.

[FR Doc. 00-8140 Filed 3-31-00; 8:45 am]

BILLING CODE 4820-02-P